DEPARTMENT OF TRANSPORTATION

Federal Aviation Administration

14 CFR Part 71

[Airspace Docket No. 00-AAL-5]

Proposed Revision of Class E Airspace; Gulkana, AK

AGENCY: Federal Aviation Administration (FAA), DOT.

ACTION: Notice of proposed rulemaking.

SUMMARY: This action revises Class E airspace at Gulkana, AK. The establishment of two new Area Navigation (RNAV) instrument approaches and the revision of the Very High Frequency (VHF) Omni-directional Radio Range (VOR) and Non-directional Radio Beacon (NDB) instrument approaches to runway (RWY) 14 and RWY 32 at Gulkana Airport, Gulkana, AK, have made this action necessary. Adoption of this proposal would result in the provision of adequate controlled airspace for Instrument Flight Rules (IFR) operations at Gulkana, AK.

DATES: Comments must be received on or before December 11, 2000.

ADDRESSES: Send comments on the proposal in triplicate to: Manager, Operations Branch, AAL-530, Docket No. 00-AAL-5, Federal Aviation Administration, 222 West 7th Avenue, Box 14, Anchorage, AK 99513-7587.

The official docket may be examined in the Office of the Regional Counsel for the Alaskan Region at the same address.

An informal docket may also be examined during normal business hours in the Office of the Manager, Operations Branch, Air Traffic Division, at the address shown above and on the Internet at Alaskan Region's homepage at http://www.alaska.faa.gov/at or at address http://162.58.28.41/at.

FOR FURTHER INFORMATION CONTACT: Robert van Haastert, Operations Branch, Federal Aviation Administration, 222 West 7th Avenue, Box 14, Anchorage, AK 99513-7587; telephone number (907) 271-5863; fax: (907) 271-2850; email: Robert.ctr.van-Haastert@faa.gov. Internet address: http://www.alaska.faa.gov/at or at address http://162.58.28.41/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commentors wishing the FAA to acknowledge receipt of their comments on this action must submit with those comments a self-addressed, stamped postcard on which the following statement is made: “Comments to Airspace Docket No. 00-AAL-5.” The postcard will be date/time stamped and returned to the commentor. All communications received on or before the specified closing date for comments will be considered before taking action on the proposed rule. The proposal contained in this action may be changed in light of comments received. All comments submitted will be available for examination in the Operations Branch, Air Traffic Division, Federal Aviation Administration, 222 West 7th Avenue, Box 14, Anchorage, AK, both before and after the closing date for comments. A report summarizing each substantive public contact with FAA personnel concerned with this rulemaking will be filed in the docket.

Availability of Notice of Proposed Rulemaking's (NPRM's)

An electronic copy of this document may be downloaded, using a modem and suitable communications software, from the FAA regulations section of the Fedworld electronic bulletin board service (telephone: 703-321-3339) or the Federal Register's electronic bulletin board service (telephone: 202-512-1661).

Internet users may reach the Federal Register's web page for access to recently published rulemaking documents at http://www.access.gpo.gov/su_docs/aces/aces140.html.

Any person may obtain a copy of this NPRM by submitting a request to the Operations Branch, AAL-530, Federal Aviation Administration, 222 West 7th Avenue, Box 14, Anchorage, AK 99513-7587. Communications must identify the docket number of this NPRM. Persons interested in being placed on a mailing list for future NPRM's should contact the individual(s) identified in the FOR FURTHER INFORMATION CONTACT section.

The Proposal

The FAA proposes to amend 14 CFR part 71 by revising Class E airspace at Gulkana, AK, due to the establishment of two new RNAV instrument approaches and revision of the VOR and NDB instrument approach procedures to RWY 14 and RWY 32. The intended effect of this proposal is to provide additional controlled airspace for IFR operations at Gulkana, AK.

The area would be depicted on aeronautical charts for pilot reference. The coordinates for this airspace docket are based on North American Datum 83. The Class E airspace areas designated as Surface Areas are published in paragraph 6002 and the Class E airspace areas extending upward from 700 feet or more above the surface of the Earth are published in paragraph 6005 in FAA Order 7400.9H, Airspace Designations and Reporting Points, dated September 1, 2000, and effective September 16, 2000, which is incorporated by reference in 14 CFR 71.1. The Class E airspace designations listed in this document would be published subsequently in the Order.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

* * * * *

Paragraph 6002 Class E airspace designated as surface areas.

* * * * *

AAL AK E2 Gulkana, AK [Revised]

Gulkana Airport, AK

(Lat. 62°09′18″ N., long. 145°27′24″ W.)

Gulkana VORTAC

(Lat. 62°09′08″ N., long. 145°27′01″ W.)

Glenallen NDB

(Lat. 62°11′43″ N., long. 145°28′05″ W.)

That airspace extending upward from the surface to and including 4,100 feet MSL within a 4 mile radius of the Gulkana Airport, and within 2.8 miles west of the Gulkana VORTAC 344° radial clockwise to 2.8 miles east of the 352° radial extending from the Gulkana airport to 9.4 miles north of the airport, and within 2.5 miles east of the Gulkana VORTAC 172° radial clockwise to 2.5 miles west of the Gulkana 180° radial extending from the Gulkana airport to 7 miles south of the Gulkana airport. This airspace is effective during specific dates and times established in advance by Notice to Airmen. The effective dates and times will thereafter be continuously published in the Airport/Facility Directory.

* * * * *

Paragraph 6005 Class E airspace extending upward from 700 feet or more above the surface of the earth.

* * * * *

AAL AK E5 Gulkana, AK [Revised]

Gulkana Airport, AK

(Lat. 62°09′18″ N., long. 145°27′24″ W.)

Gulkana VORTAC

(Lat. 62°09′08″ N., long. 145°27′01″ W.)

Glenallen NDB

(Lat. 62°11′43″ N., long. 145°28′05″ W.)

That airspace extending upward from 700 feet above the surface within 6.5-mile radius of the Gulkana airport and within 8 miles west of the Gulkana VORTAC 344° radial, clockwise to 4 miles east of the 352° radial extending from the Gulkana airport to 16 miles north of the Gulkana airport, and within 4 miles east of the Gulkana VORTAC 172° radial clockwise to 4 miles west of the Gulkana VORTAC 180° radial extending 9.5 miles south of the Gulkana airport; and that airspace extending upward from 1,200 feet above the surface within an area bounded by lat. 62°35′00″ N long. 145°39′30″ W, counter clockwise to lat. 62°02′00″ N long. 146°30′00″ W, to lat 61°41′30″ N long. 145°13′00″ W, to lat. 62°22′30″ N long. 144°27′00″ W, to the point of beginning.

* * * * *

Issued in Anchorage, AK, on October 6, 2000.
Joseph F. Woodford,
Acting Manager, Air Traffic Division, Alaskan Region.

[FR Doc. 00-26821 Filed 10-24-00; 8:45 am]

BILLING CODE 4910-13-P